Title 3—

The President

Proclamation 7538 of April 4, 2002

National Former Prisoner of War Recognition Day, 2002

By the President of the United States of America

A Proclamation

Throughout our Nation's history, patriotic Americans have responded to the call to defend our freedoms. During war and peace, American soldiers, sailors, airmen, and marines have stood vigilant, prepared, and willing to put themselves in harm's way to protect our Nation. We owe the liberties we have today to their brave service.

Americans who bear the title “Former Prisoner of War” are national heroes. Their service to our country placed them in dire circumstances, causing their capture and imprisonment by our country's enemies. These heroes suffered great adversity and sacrificed much for freedom and for the future of America.

This year, as we remember our former prisoners of war (POWs), we also mark the 60th anniversary of the Bataan Death March. Many of the American soldiers who defended Corregidor, until they were overwhelmed by enemy forces, never made it to prison camp. Many were killed outright, and many died after enduring unspeakable horrors. For those who survived the march, the war entered a new phase: the struggle against their captors. By enduring tremendous hardships and humiliations, and in gallantly supporting their fellow prisoners, these Americans exemplified the best of our Nation's spirit.

The families of POWs also spent long, lonely years without knowing whether they would ever see their loved ones again. As we remember our former POWs, we must also remember their families and friends who suffered along with them. Our Nation must never forget their courage.

Today, former POWs from across America work to assist their former comrades and their families to cope with the painful memories of the suffering that life as a POW inflicted. These courageous heroes have important and powerful stories to share, which can and should serve as an inspiration to succeeding generations. Through these efforts, former POWs have established a simple but enduring legacy, which ensures that their heroism and that of their fallen or missing comrades will not be forgotten.

On National Former Prisoner of War Recognition Day, we recognize the sacrifice of our former POWs and remember with honor their heroism. We also pledge that we will work to ensure that future generations will understand and appreciate the courage and contributions of these selfless heroes.

NOW, THEREFORE, I, GEORGE W. BUSH, President of the United States of America, by virtue of the authority vested in me by the Constitution and laws of the United States, do hereby proclaim April 9, 2002, as National Former Prisoner of War Recognition Day. I call upon all the people of the United States to join me in remembering former American prisoners of war by honoring the memory of their sacrifices. I also call upon Federal, State, and local government officials and private organizations to observe this day with appropriate ceremonies and activities.

IN WITNESS WHEREOF, I have hereunto set my hand this fourth day of April, in the year of our Lord two thousand two, and of the Independence of the United States of America the two hundred and twenty-sixth.

B

[FR Doc. 02-9104

Filed 4-11-02; 8:45 am]

Billing code 3195-01-P